ENVIRONMENTAL PROTECTION AGENCY

[FRL-9705-3]

Delegation of Authority To Implement and Enforce Outer Continental Shelf Air Regulations to the Delaware Department of Natural Resources and Environmental Control

AGENCY: Environmental Protection Agency (EPA).

ACTION: Notice of delegation of authority.

SUMMARY: On July 21, 2010, EPA sent the Delaware Department of Natural Resources and Environmental Control (DNREC) a letter acknowledging DNREC has been delegated the authority to implement and enforce sections of the Outer Continental Shelf (OCS) Air Regulations. To inform regulated facilities and the public of DNREC's delegation of authority to implement and enforce OCS regulations, EPA is making available a copy of EPA's letter to DNREC through this notice.

DATES: On July 21, 2010, EPA sent DNREC a letter acknowledging DNREC has been delegated the authority to implement and enforce OCS.

ADDRESSES: Copies of documents pertaining to this action are available for public inspection during normal business hours at the Air Protection Division, U.S. Environmental Protection Agency, Region III, 1650 Arch Street, Philadelphia, Pennsylvania 19103-2029. Copies of the State submittal are available at the Delaware Department of Natural Resources and Environmental Control, 89 Kings Highway, P.O. Box 1401, Dover, Delaware.

FOR FURTHER INFORMATION CONTACT: Cathleen Kennedy, (215) 814-2746, or by email at kennedy.cathleen@epa.gov.

SUPPLEMENTARY INFORMATION: On July 8, 2010, DNREC requested delegation of authority to implement, administer, and enforce Title 40 of the Code of Federal Regulations, Part 55 (Outer Continental Shelf Air Regulations). On July 21, 2010, EPA sent DNREC a letter acknowledging that DNREC has been delegated the authority to implement and enforce OCS regulations. A copy of EPA's letter to DNREC follows:

“The Honorable Collin O'Mara

Secretary

Delaware Department of Natural

Resources and Environmental Control

89 Kings Highway

Dover, Delaware 19901

Dear Secretary O'Mara:

In response to your delegation request, dated July 8, 2010, the U.S. Environmental Protection Agency, Region III (EPA) hereby grants to the Delaware Department of Natural Resources and Environmental Control (DNREC) formal delegation of the following sections of the Outer Continental Shelf (OCS) Regulation in the Code of Federal Regulations, Title 40, Part 55 (40 CFR part 55), as it exists on July 9, 2009:

• 55.1—Statutory authority and scope.

• 55.2—Definitions.

• 55.3—Applicability.

• 55.4—Requirements to submit a notice of intent.

• 55.6—Permit requirements.

• 55.7—Exemptions.

• 55.8—Monitoring, reporting, inspections, and compliance.

• 55.9—Enforcement.

• 55.10—Fees.

• 55.13—Federal requirements that apply to OCS sources.

• 55.14—Requirements that apply to OCS sources located within 25 miles of states' seaward boundaries, by State.

• 55.15— Specific designation of corresponding onshore areas.

• Appendix A to 40 CFR part 55—Listing of State and Local Requirements Incorporated by Reference Into Part 55, by State.

As stated in 40 CFR part 55.11(b), the Administrator will delegate implementation and enforcement authority to a State if the State has an adjacent OCS source and the Administrator determines that the State's regulations are adequate, including a demonstration by the State that the State has:

(1) Adopted the appropriate portions of part 55 into State law;

(2) Adequate authority under State law to implement and enforce the requirements of this part. A letter from the State Attorney General shall be required stating that the requesting agency has such authority;

(3) Adequate resources to implement and enforce the requirements of this part; and

(4) Adequate administrative procedures to implement and enforce the requirements of this part, including public notice and comment procedures.

EPA reviewed DNREC's July 8, 2010 request and concludes that it meets all of the requirements of 40 CFR Part 55.11(b). Therefore, DNREC is authorized to implement, enforce, and administer the parts of 40 CFR part 55 listed above for OCS sources in which Delaware is the corresponding onshore area.

I appreciate DNREC's efforts to implement the OCS regulations and look forward to working with you to foster the growth of alternative energy projects in Delaware. If you have any questions, please do not hesitate to contact me or have your staff contact Ms. Amie Howell, EPA's Delaware Liaison, at (215) 814-5722.

Sincerely,

Shawn M. Garvin

Regional Administrator”

This notice acknowledges that DNREC has been delegated the authority to implement and enforce OSC Air Regulations.

Dated: July 10, 2012.
W.C. Early,
Acting Regional Administrator, Region III.

[FR Doc. 2012-18384 Filed 7-26-12; 8:45 am]

BILLING CODE 6560-50-P